DEPARTMENT OF THE INTERIOR

Central Utah Project Completion Act; Finding of No Significant Impact Associated With the Environmental Assessment for Block Notice 1A Heber Sub-Area Agricultural Water to Municipal Industrial Water Conversion

AGENCY: Office of the Assistant Secretary for Water and Science, Interior.

ACTION: Notice of availability.

SUMMARY: On September 27, 2011, the Department of the Interior signed a Finding of No Significant Impact which documents the selection of the Proposed Action as presented in the Final Environmental Assessment for the Block Notice 1A Heber Sub-Area Agricultural Water to Municipal & Industrial Water Conversion.

ADDRESSES: A copy of the Final Environmental Assessment and Finding of No Significant Impact may be accessed on the Internet at http://www.cuwcd.com and http://www.cupcao.gov. CD and paper copies can be obtained by contacting Sarah Sutherland, 355 West University Parkway, Orem, Utah 84058, sarah@cuwcd.com, (801) 226-7146.

FOR FURTHER INFORMATION CONTACT: Mr. Lynn Hansen, Central Utah Project Completion Act Office, 302 East 1860 South, Provo, Utah 84606, (801) 379-1238, or email at lhansen@usbr.gov.

SUPPLEMENTARY INFORMATION: The Department of the Interior (Interior) has determined that implementing the Proposed Action described in the Environmental Assessment (EA) will not have a significant impact on the quality of the human environment and that an environmental impact statement is not required. The proposed action would:

1. Administratively convert up to 12,100 acre-feet of Central Utah Project Bonneville Unit agricultural water, delivered under Block Notice 1A and allotted to the Heber Sub-Area, from agricultural to municipal & industrial use.

2. Expand the Heber Sub-area.

3. Require modifying Block Notice 1A to reflect these administrative changes. Completing this EA would allow the administrative changes but would not automatically convert the water. The actual conversion would be completed by Central Utah Water Conservancy District and Interior consistent with Bureau of Reclamation law over time as requests are received from petitioners and contract holders.

4. Provide for installation and operation of a temporary water-delivery system in the event of an emergency that affects the water supply to the Jordanelle Special Service District (JSSD) Keetley Water Treatment Plant at Jordanelle Reservoir. During an emergency, this system would provide JSSD with a temporary method to receive its contracted portion of the Block Notice 1A water. Because the temporary water-delivery system would be installed on Federal land, Interior would need to issue a license agreement to JSSD as part of the process.

Dated: November 21, 2011.
Reed R. Murray,
Program Director, Central Utah Project Completion Act, Department of the Interior.

[FR Doc. 2011-30825 Filed 11-29-11; 8:45 am]

BILLING CODE 4310-MN-P